ENVIRONMENTAL PROTECTION AGENCY

40 CFR Parts 80, 85, 86, 600, 1036, 1037, 1065, and 1066

[EPA-HQ-OAR-2011-0135; FRL-9818-5]

RIN 2060-A0

Control of Air Pollution From Motor Vehicles: Tier 3 Motor Vehicle Emission and Fuel Standards

AGENCY: Environmental Protection Agency (EPA).

ACTION: Notice; extension of comment period.

SUMMARY: The U.S. Environmental Protection Agency (“EPA”) is announcing an extension of the public comment period for the proposed rule “Control of Air Pollution from Motor Vehicles: Tier 3 Motor Vehicle Emission and Fuel Standards” (the proposed rule is hereinafter referred to as “Tier 3”). EPA published a notice of proposed rulemaking, which included a request for comment, in the Federal Register on May 21, 2013. The public comment period was to end on June 13, 2013. The purpose of this document is to extend the public comment period an additional 18 days, to July 1, 2013.

DATES: Written comments must be received on or before July 1, 2013.

ADDRESSES: Submit your comments, identified by Docket ID No. EPA-HQ-OAR-2011-0135, by one of the following methods:

• www.regulations.gov: Follow the on-line instructions for submitting comments.

• Email: a-and-r-docket@epa.gov.

• Mail: Air and Radiation Docket and Information Center, Environmental Protection Agency, Mailcode: 2822T, 1200 Pennsylvania Ave. NW., Washington, DC 20460. In addition, please mail a copy of your comments on the information collection provisions to the Office of Information and Regulatory Affairs, Office of Management and Budget (OMB), Attn: Desk Officer for EPA, 725 17th St. NW., Washington, DC 20503.

• Hand Delivery: EPA Docket Center, EPA West Building, Room 3334, 1301 Constitution Ave. NW., Washington, DC 20460. Such deliveries are only accepted during the Docket's normal hours of operation, and special arrangements should be made for deliveries of boxed information.

Instructions: Direct your comments to Docket ID No. EPA-HQ-OAR-2011-0135. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm. For additional instructions on submitting comments, please refer to the notice of proposed rulemaking (Section XI, Public Participation, of the SUPPLEMENTARY INFORMATION section of the proposed rulemaking document).

How can I access the docket?

All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air and Radiation Docket and Information Center, EPA/DC, EPA West, Room 3334, 1301 Constitution Ave. NW., Washington DC. The Public Reading Room is open from 8:30 a.m. to 4:30 p.m., Monday through Friday, excluding legal holidays. The telephone number for the Public Reading Room is (202) 566-1744, and the telephone number for the Air Docket is (202) 566-1742.

How can I get copies of this document, the proposed rule, and other related information?

The EPA has established a docket for this action under Docket ID No. EPA-HQ-OAR- 2011-0135. The EPA has also developed a Web site for the proposed Tier 3 rule, including the notice of proposed rulemaking, at: http://www.epa.gov/otaq/tier3.htm. Please refer to the notice of proposed rulemaking for detailed information on accessing information related to the proposal.

FOR FURTHER INFORMATION CONTACT: JoNell Iffland, Office of Transportation and Air Quality, Assessment and Standards Division, Environmental Protection Agency, 2000 Traverwood Drive, Ann Arbor MI 48105; telephone number: (734) 214-4454; Fax number: (734) 214-4816; Email address: iffland.jonell@epa.gov.

SUPPLEMENTARY INFORMATION:

In response to requests for an extension, we are extending the public comment period for the Tier 3 proposed rulemaking through July 1, 2013. This extension will provide the public additional time to provide comment on the proposed rule.

Dated: May 23, 2013.
Christopher Grundler,
Director, Office of Transportation and Air Quality.

[FR Doc. 2013-12749 Filed 5-28-13; 8:45 am]

BILLING CODE 6560-50-P